DEPARTMENT OF COMMERCE

National Oceanic and Atmospheric Administration

RIN 0648-XB78

Endangered and Threatened Species; Take of Anadromous Fish

AGENCY: National Marine Fisheries Service (NMFS), National Oceanic and Atmospheric Administration (NOAA), Commerce.

ACTION: Applications for two scientific research permits.

SUMMARY: Notice is hereby given that NMFS has received two scientific research permit application requests relating to Pacific salmon. The proposed research is intended to increase knowledge of species listed under the Endangered Species Act (ESA) and help guide management and conservation efforts.

DATES: Comments or requests for a public hearing on the applications must be received at the appropriate address or fax number (see ADDRESSES) no later than 5 p.m. Pacific standard time on September 5, 2007.

ADDRESSES: Written comments on the applications should be sent to the Protected Resources Division, NMFS, 1201 NE Lloyd Blvd., Suite 1100, Portland, OR 97232-1274. Comments may also be sent via fax to 503-230-5441 or by e-mail to resapps.nwr@NOAA.gov.

FOR FURTHER INFORMATION CONTACT: Garth Griffin, Portland, OR (ph.: 503-231-2005, Fax: 503-230-5441, e-mail: Garth.Griffin@noaa.gov). Permit application instructions are available from the address above.

SUPPLEMENTARY INFORMATION:

Species Covered in This Notice

The following listed species are covered in this notice:

Chinook salmon (Oncorhynchus tshawytscha): threatened lower Columbia River (LCR), threatened upper Willamette River (UWR), threatened Snake River (SR) spring/summer-run (spr/sum), threatened SR fall-run. Steelhead (O. mykiss): threatened LCR, threatened Snake River (SR). Coho salmon (O. kisutch): threatened LCR. Sockeye salmon (O. nerka): endangered SR.

Authority

Scientific research permits are issued in accordance with section 10(a)(1)(A) of the ESA (16 U.S.C. 1531 et seq.) and regulations governing listed fish and wildlife permits (50 CFR 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits. Anyone requesting a hearing on an application listed in this notice should set out the specific reasons why a hearing on that application would be appropriate (see ADDRESSES). Such hearings are held at the discretion of the Assistant Administrator for Fisheries, NMFS.

Applications Received

Permit 1124

The Idaho Department of Fish and Game (IDFG) is requesting a 5-year permit for seven study tasks that, among them, would annually take adult and juvenile threatened SR fall chinook salmon; adult and juvenile threatened spring/summer SR chinook salmon; and adult and juvenile endangered SR sockeye salmon in the Salmon and Clearwater Rivers in Idaho. The original Permit 1124 was in place for 5 years (63 FR 30199) with one amendment (67 FR 34909); it expired on December 31, 2002. The permit was renewed for another five years and is due to expire on December 31, 2007. Throughout its existence, the permit has comprised the same seven tasks (with the addition of rescuing and salvaging listed fish): Task 1 - General fish population inventory; Task 2 - Spring/summer chinook salmon natural production monitoring and evaluation; Task 3 - Spring/summer chinook salmon supplementation research; Task 4 - Redfish Lake, Pettit Lake, Alturas Lake kokanee/sockeye research; Task 5 - Salmon and steelhead fish health monitoring; Task 6 - Steelhead natural production monitoring and evaluation; and Task 7 - Steelhead supplementation research. Under these tasks, listed adult and juvenile salmon would be (a) Observed/harassed during fish population and production monitoring surveys; (b) captured (using seines, traps, hook-and-line angling equipment, and electrofishing equipment) and anesthetized; (c) sampled for biological information and tissue samples, (d) PIT-tagged or tagged with radio transmitters or other identifiers, (e) and released. Some fish would die as a result of the research activities though the permit would include salvage and rescue operations as part of the allotted take (i.e., during some of the activities, listed fish would be collected and transported to improve their survival). In addition, the IDFG is asking to lethally take a small number of juvenile SR sockeye and spring/summer chinook salmon during some of the research.

The research has many purposes and would benefit listed SR salmon in different ways. In general, the purpose of the research is to determine the distribution, abundance, and productivity of anadromous and resident fish stocks; measure the efficacy of harvest management strategies; gauge the impact of proposed or existing habitat alteration projects; and monitor natural production levels, salmonid health, and the effectiveness of supplementation efforts. The research would benefit listed salmon by helping resource managers tailor land-altering activities (e.g., timber harvest, road building) to the needs of the fish; set harvest regimes so that they have minimal impacts on listed populations; prioritize projects in a way that gives maximum benefit to listed species; and design strategies and activities to help recover them.

Permit 10021

The Lower Willamette Group (LWG) is seeking a 2-year permit to annually capture UWR Chinook salmon, UWR steelhead, LCR Chinook salmon, LCR steelhead, and LCR coho salmon during the course of research directed at non-listed fish species in the lower Willamette River, Oregon. The information gained from this action would be used to fill data gaps in food web models and determine tissue contaminant concentrations as part of the ongoing Remedial Investigation/Feasibility Study of the lower Willamette River superfund site. The research would benefit listed salmonids by helping guide the superfund site cleanup effort and thereby improve habitat conditions for listed anadromous salmonids that migrate through the harbor. The LWG proposes to use boat electrofishing to capture non-listed fish. If a salmonid is observed, the LWG would not attempt to net it; instead, they would cease electrofishing and move to another area before resuming sampling. The LWG does not intend to kill any of the salmonids being captured but a small number may die as an unintended result of the activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: August 1, 2007.
Angela Somma,
Chief, Endangered Species Division, Office of Protected Resources, National Marine Fisheries Service.

[FR Doc. E7-15229 Filed 8-3-07; 8:45 am]

BILLING CODE 3510-22-S